PRESIDIO TRUST

Notice of Public Meeting

AGENCY: The Presidio Trust.

ACTION: Notice of public meeting.

SUMMARY: In accordance with section 103(c)(6) of the Presidio Trust Act, 16 U.S.C. 460bb note, Title I of Pub. L. 104-333, 110 Stat. 4097, and in accordance with the Presidio Trust's bylaws, notice is hereby given that a public meeting of the Presidio Trust Board of Directors will be held from 1:00 p.m. to 4:00 p.m. on Monday, September 17, 2001, at the Officers' Club, 50 Moraga Avenue, Presidio of San Francisco, California. The Presidio Trust was created by Congress in 1996 to manage approximately eighty percent of the former U.S. Army base known as the Presidio, in San Francisco, California.

This public board meeting is the second public hearing regarding the draft Presidio Trust Implementation Plan (PTIP) and Environmental Impact Statement (EIS). Members of the public interested in commenting on the final PTIP or EIS will be provided with an opportunity at the meeting to make oral comments for the record that will be considered by the Presidio Trust in the preparation of the final PTIP and EIS.

DATES: The meeting will be held from 1:00 p.m. to 4:00 p.m. on Monday, September 17, 2001.

ADDRESSES: The meeting will be held at the Officers' Club, 50 Moraga Avenue, Presidio of San Francisco.

FOR FURTHER INFORMATION CONTACT: Craig Middleton, Deputy Director for Governmental Affairs, Programs and Administration, the Presidio Trust, 34 Graham Street, P.O. Box 29052, San Francisco, California 94129-0052, Telephone: (415) 561-5300.

Dated: August 15, 2001.
Karen A. Cook,
General Counsel.

[FR Doc. 01-21009 Filed 8-20-01; 8:45 am]

BILLING CODE 4310-4R-P